DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Public Employment & Payroll Forms.

OMB Control Number: 0607-0452.

Form Number(s): E-1 through E-10.

Type of Request: Extension of a currently approved collection.

Number of Respondents: 44,088.

Average Hours per Response: 1 hour and 5 minutes.

Burden Hours: 47,903.

Needs and Uses: This information collection request covers the questionnaires needed to conduct the public employment program for the 2015 Annual Survey of Public Employment & Payroll, the 2016 Annual Survey of Public Employment & Payroll, and the 2017 Census of Governments: Employment.

The Census of Governments: Employment and its related program, the Annual Survey of Public Employment & Payroll, provide a rich source of data on state and local government employment and payroll in the United States. Data have been collected annually since 1957. A census is conducted every five years (years ending in `2' and `7'). A sample of state and local governments is used to collect data in the intervening years, with a new sample selected every five years (years ending in `4' and `9'). The survey provides state and local government data on full-time and part-time employment, part-time hours worked, full-time equivalent employment, and payroll statistics by governmental function (e.g., elementary and secondary education, higher education, police protection, fire protection, financial administration, central staff services, judicial and legal, highways, public welfare, etc.).

The 10 questionnaires for collecting the data are each tailored to the unique characteristics of the type and size of government or government agency to be surveyed. The type of employment and payroll data to be collected No changes will be made to the form content as currently approved. However, formatting changes will be made to the forms to facilitate data capture using current technology, Integrated Computer Assisted Data Entry (iCADE), and to clarify wording and form flow with respondents such as integrating the instruction in bullet form into the questions. These changes were cognitively tested.

The Census of Governments: Employment and its related program, the Annual Survey of Public Employment & Payroll, provide data on state and local government employment and payroll in the United States. Census Bureau staff apply a standard set of criteria while classifying government employment activity in order to provide what is perhaps the only complete and uniform set of data on the employment activities of governments in the United States.

Statistics compiled from data gathered using these forms are used in several important Federal government programs. Economists at the Bureau of Economic Analysis (BEA) use the statistics for developing the National Income and Product Accounts. According to the Chief Statistician of BEA, “The data obtained from these forms are critical to BEA for maintaining reliable estimates. Specifically, BEA uses national, state, local, and type-of-government aggregate data by function for full-time and part-time employees, payroll, and number of part-time hours worked to prepare estimates of functional payrolls for the public sector of the gross domestic product (GDP). BEA also uses these data to prepare estimates of state and local government compensation of employees in both the annual and benchmark input-output accounts.”

BEA also uses the Census of Governments and the Annual Survey of Public Employment & Payroll to derive state-level estimates of the employment and wages and salaries of students and their spouses who are employed by public institutions of higher education in which the students are enrolled. There is no other national or state source for information on student workers at state institutions of higher education.

The employment data are used for two other data collection efforts currently conducted by the Census Bureau. The Medical Expenditures Panel Survey (MEPS) collects data for the Department of Health and Human Services (HHS) on health plans offered to state and local government employees. The MEPS sample of public employees is drawn from the Census of Governments: Employment component universe and employment data from the survey are used in statistical methods for creating national estimates on health plans. The Criminal Justice Employment and Expenditure program (CJEE), sponsored by the Bureau of Justice Statistics (BJS), uses employment data to provide employee and payroll statistics on police protection and correctional activities.

State and local government officials use these employment data to analyze and assess individual government labor force and wage levels. Both management and labor consult these data during wage and salary negotiations.

Public interest groups of many types produce analyses of public sector activities using these data. User organizations representing state and local government include the Council of State Governments, the National Conference of State Legislatures, Government Research Association, U.S. Conference of Mayors, National Association of Counties, National League of Cities, and the National Association of Towns and Townships. Another category of users, having a more specific focus on government activities, includes organizations such as the National School Boards Association and the National Sheriffs Association.

A variety of private sector organizations and individuals make use of these employment and payroll data. Notable research organizations include the Brookings Institution and the Nelson A. Rockefeller Institute of Government.

Both public and private universities utilize these data. Instructors, researchers, and students in schools of public administration, political science, management, and industrial relations as well as other members of the public also use employment data.

Affected Public: State, local or tribal government; Federal government.

Frequency: Annually.

Respondent's Obligation: Voluntary.

Legal Authority: Title 13, U.S.C., Section 161 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: September 8, 2015.
Glenna Mickelson,
Management Analyst, Office of the Chief Information Officer.

[FR Doc. 2015-22897 Filed 9-10-15; 8:45 am]

BILLING CODE 3510-07-P